NUCLEAR REGULATORY COMMISSION

Sunshine Act; Federal Register Notice

Agency Holding the Meetings: Nuclear Regulatory Commission.

Date: Week of October 12, 2009.

Place: Commissioners' Conference Room, 11555 Rockville Pike, Rockville, Maryland.

Status: Public and Closed.

Additional Items To Be Considered:

Week of October 12, 2009

Tuesday, October 13, 2009

9:15 a.m. Affirmation Session (Public Meeting) (Tentative). Calvert Cliffs 3 Nuclear Project LLC & UniStar Nuclear Operating Services LLC (Combined License App. Calvert Cliffs, Unit 3) Docket Nos. 52-016-COL, Calvert Cliffs 3 Nuclear Project LLC & UniStar Nuclear Operating Services, LLC, Appeal from LBP-09-4 (Tentative).

*The schedule for Commission meetings is subject to change on short notice. To verify the status of meetings, call (recording)—(301) 415-1292. Contact person for more information: Rochelle Bavol, (301) 415-1651.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g., braille, large print), please notify the NRC's Disability Program Coordinator, Rohn Brown, at 301-492-2279, TDD: 301-415-2100, or by e-mail at rohn.brown@nrc.gov. Determinations on requests for reasonable accommodation will be made on a case-by-case basis.

This notice is distributed electronically to subscribers. If you no longer wish to receive it, or would like to be added to the distribution, please contact the Office of the Secretary, Washington, DC 20555 (301-415-1969), or send an e-mail to darlene.wright@nrc.gov.

Dated: October 5, 2009.
Rochelle C. Bavol,
Office of the Secretary.

[FR Doc. E9-24530 Filed 10-7-09; 4:15 pm]

BILLING CODE 7590-01-P